DEPARTMENT OF COMMERCE

National Oceanic and Atmospheric Administration

RIN 0648-XE061

Marine Mammals; File No. 19257

AGENCY: National Marine Fisheries Service (NMFS), National Oceanic and Atmospheric Administration (NOAA), Commerce.

ACTION: Notice; receipt of application.

SUMMARY: Notice is hereby given that Ann M. Zoidis, Cetos Research Organization, 11 Des Isle Avenue, Bar Harbor, ME 04609, has applied in due form for a permit to conduct research on humpback whales (Megaptera novaeangliae) and other cetacean species.

DATES: Written, telefaxed, or email comments must be received on or before November 2, 2015.

ADDRESSES: The application and related documents are available for review by selecting “Records Open for Public Comment” from the “Features” box on the Applications and Permits for Protected Species (APPS) home page, https://apps.nmfs.noaa.gov, and then selecting File No. 19257 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Rosa L. González or Carrie Hubard, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant proposes to address a variety of questions regarding population size, habitat use, and behavior of baleen and odontocete species using passive acoustic monitoring, suction cup tagging, biopsy sampling, underwater photography/videography, and photo ID during vessel surveys in Hawaii and the Mariana Islands (Guam and the Commonwealth of the Northern Mariana Islands). The research would target humpback whales as well as 25 other species of whales and dolphins. Species may undergo all methodologies (except right whales, which will not be tagged). Incidental harassment for all species is also requested. Research would take place throughout the year. The permit is requested for 5 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: September 23, 2015.
Julia Harrison,
Chief, Permits and Conservation Division, Office of Protected Resources, National Marine Fisheries Service.

[FR Doc. 2015-24976 Filed 10-1-15; 8:45 am]

BILLING CODE 3510-22-P